DEPARTMENT OF COMMERCE

International Trade Administration

[A-557-812]

Notice of Amended Final Determination of Sales at Not Less Than Fair Value: Certain Color Television Receivers From Malaysia

AGENCY: Import Administration, International Trade Administration, Department of Commerce.

DATES: Effective Date: May 7, 2004.

FOR FURTHER INFORMATION CONTACT: Mike Strollo or Gregory Kalbaugh at (202) 482-0629 and (202) 482-3693, respectively, AD/CVD Enforcement, Office 2, Import Administration, International Trade Administration, U.S. Department of Commerce, 14th Street and Constitution Avenue, NW., Washington, DC 20230.

Amendment to Final Results

In accordance with section 735 of the Tariff Act of 1930, as amended (the Act), on April 16, 2004, the Department published the final determination in the less-than-fair-value investigation on certain color televisions from Malaysia. See Notice of Final Determination of Sales at Not Less Than Fair Value: Certain Color Television Receivers from Malaysia (69 FR 20592). On April 16, 2004, we received an allegation, timely filed pursuant to 19 CFR 351.224(c)(2), from Funai Electric (Malaysia) Sdn. Bhd. (Funai Malaysia), the sole respondent, that the Department made a ministerial error in its final determination. We did not receive comments from the petitioners (i.e., Five Rivers Electronic Innovations, LLC, the International Brotherhood of Electrical Workers, and the Industrial Division of the Communications Workers of America). After analyzing Funai Malaysia's submission, we have determined, in accordance with 19 CFR 351.224, that a ministerial error was made in our final margin calculation for Funai Malaysia. Specifically, we find that we failed to revise our surrogate direct and indirect selling expenses for the domestic market to use the company-specific data of Formosa Prosonic Industries, the same company from which the profit ratio was derived.

For a detailed discussion of the ministerial error noted above, as well as the Department's analysis, see the memorandum to Jeffrey May from the team, dated April 28, 2004.

Therefore, in accordance with 19 CFR 351.224(e), we are amending the final determination in the less-than-fair-value investigation on certain color television receivers from Malaysia. The margin for Funai Malaysia remains de minimis. The revised weighted-average dumping margin is as follows:

Manufacturer/exporter | Original margin (percent) | Revised margin (percent)
Funai Electric (Malaysia) Sdn. Bhd (Funai Malaysia) | 0.75 | 0.47

Scope of the Investigation

For purposes of this investigation, the term “certain color television receivers” includes complete and incomplete direct-view or projection-type cathode-ray tube color television receivers, with a video display diagonal exceeding 52 centimeters, whether or not combined with video recording or reproducing apparatus, which are capable of receiving a broadcast television signal and producing a video image. Specifically excluded from this investigation are computer monitors or other video display devices that are not capable of receiving a broadcast television signal.

The color television receivers subject to this investigation are currently classifiable under subheadings 8528.12.2800, 8528.12.3250, 8528.12.3290, 8528.12.4000, 8528.12.5600, 8528.12.3600, 8528.12.4400, 8528.12.4800, and 8528.12.5200 of the Harmonized Tariff Schedule of the United States (“HTSUS”). Although the HTSUS subheadings are provided for convenience and customs purposes, the written description of the scope of the merchandise under investigation is dispositive.

This investigation and notice are in accordance with sections 735(d) and 777(i) of the Act.

Dated: April 30, 2004.
James J. Jochum,
Assistant Secretary for Import Administration.

[FR Doc. 04-10482 Filed 5-6-04; 8:45 am]

BILLING CODE 3510-DS-P